DEPARTMENT OF HEALTH AND HUMAN SERVICES

Centers for Disease Control and Prevention

Disease, Disability, and Injury Prevention and Control Special Emphasis Panel (SEP): Cooperative Agreements for Prevention Research Centers, Program Announcement 01101

In accordance with section 10(a)(2) of the Federal Advisory Committee Act (Pub. L. 92-463), the Centers for Disease Control and Prevention (CDC) announces the following meeting.

Name: Disease, Disability, and Injury Prevention and Control Special Emphasis Panel (SEP): Cooperative Agreements for Prevention Research Centers, Program Announcement 01101, meeting.

Times and Dates: 8:30 a.m.-9 a.m., July 10, 2001 (Open).9 a.m.-5 p.m., July 10, 2001 (Closed).8:30 a.m.-12 noon, July 11, 2001 (Closed).

Place: Crowne Plaza Airport Hotel, 1325 Virginia Ave, Atlanta, GA 30344.

Status: Portions of the meeting will be closed to the public in accordance with provisions set forth in section 552b(c)(4) and (6), Title 5 U.S.C., and the Determination of the Deputy Director for Program Management, CDC, pursuant to Public Law 92-463.

Matters to be Discussed: The meeting will include the review, discussion, and evaluation of grant applications to fund two new Prevention Research Centers received in response to Program Announcement #01101.

Contact Person for More Information: John M. Davis, Public Health Analyst, Centers for Disease Control and Prevention, National Center for Chronic Disease Prevention and Health Promotion, 4770 Buford Highway, m/s K46, Atlanta, GA, 30341. Telephone 770/488-5659, email JMDAVIS@cdc.gov.

The Director, Management Analysis and Services office has been delegated the authority to sign Federal Register notices pertaining to announcements of meetings and other committee management activities, for both the Centers for Disease Control and Prevention and the Agency for Toxic Substances and Disease Registry.

Dated: June 20, 2001.
John C. Burckhardt,
Acting Director, Management Analysis and Services Office, CDC.

[FR Doc. 01-16090 Filed 6-26-01; 8:45 am]

BILLING CODE 4163-18-P